SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: October 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, subpart E for the time period specified above:

Grandfathering Registration Under 18 CFR Part 806, Subpart E

1. Danville Borough Municipal Authority—Public Water Supply System, GF Certificate No. GF-202010119, Danville Borough, Montour County, Pa.; Susquehanna River; Issue Date: October 13, 2020.

2. Pennsylvania Department of Corrections—State Correctional Institute at Camp Hill, GF Certificate No. GF-202010120, Lower Allen Township, Cumberland County, Pa.; Cedar Run and consumptive use; Issue Date: October 13, 2020.

3. Pennsylvania Department of Corrections—State Correctional Institute at Dallas, GF Certificate No. GF-202010121, Jackson Township, Luzerne County, Pa.; Well 1 and consumptive use; Issue Date: October 13, 2020.

4. Joseph and Susan Tallman—Joseph and Susan Tallman Farm, GF Certificate No. GF-202010122, Porter Township, Schuylkill County, Pa.; Wiconisco Creek; Issue Date: October 13, 2020.

5. Port Royal Municipal Authority—Public Water Supply System, GF Certificate No. GF-202010123, Turbett Township, Juniata County, Pa.; Wells 1, 3, 4, and 5; Issue Date: October 15, 2020.

6. Pennsylvania Fish & Boat Commission—Huntsdale State Fish Hatchery, GF Certificate No. GF-202010124, Penn Township, Cumberland County, Pa.; Northline/Knaubs, McManus, and Springs 3, 4, 5, 6, 7, and 9; Issue Date: October 15, 2020.

7. Centre Hall Borough—Centre Hall Borough Waterworks, GF Certificate No. GF-202010125, Centre Hall Borough and Potter Township, Centre County, Pa.; Wells 8 and 9; Issue Date: October 15, 2020.

8. Henry Reiner—Reiner Farms, GF Certificate No. GF-202010126, Upper Mahantongo Township, Schuylkill County, Pa.; Mahantongo Creek—Pivot and Mahantongo Creek—Reel; Issue Date: October 15, 2020.

Authority: Public Law 91-575, 84 Stat. 1509 et seq., 18 CFR parts 806 and 808.

Dated: November 5, 2020.
Jason E. Oyler,
General Counsel and Secretary to the Commission.

[FR Doc. 2020-24957 Filed 11-10-20; 8:45 am]

BILLING CODE 7040-01-P